DEPARTMENT OF LABOR

Office of Workers' Compensation Programs

Proposed Collection; Comment Request

AGENCY: Division of Federal Employees' Compensation, Office of Workers' Compensation Programs, Department of Labor.

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents can be properly assessed. Currently, the Office of Workers' Compensation Programs is soliciting comments concerning the proposed collection: Peace Corps Volunteer Authorization for Examination and/or Treatment (CA-15). A copy of the proposed information collection request can be obtained by contacting the office listed below in the addresses section of this Notice.

DATES: Written comments must be submitted to the office listed in the addresses section below on or before October 7, 2019.

ADDRESSES: You may submit comments by mail, delivery service, or by hand to Mr. Vincent Alvarez, U.S. Department of Labor, 200 Constitution Ave. NW, Room S-3201, Washington, DC 20210; by fax,(202) 354-9643, or email to alvarez.vincent@dol.gov Please use only one method of transmission for comments (mail/delivery, fax, or email). Please note that comments submitted after comment period will not be considered.

SUPPLEMENTARY INFORMATION:

I. Background: The Department of Labor (DOL) is requesting an approval of a new information collection as a result of the recent passage of the Sam Farr and Nick Castle Peace Corps Reform Act of 2018 (Farr-Castle), which modified various aspects of the Peace Corps, including changes to the provision of health care to volunteers.

Peace Corps Volunteers are considered to be in the performance of duty while abroad during the period of Peace Corps service for purposes of FECA coverage. An injury sustained outside the United States during service is deemed proximately caused by such service, unless the injury or illness was proximately caused by willful misconduct, intention to bring about injury or death, or intoxication.

Under the provisions of the FECA, 5 U.S.C. 8142 of the FECA defines Peace Corps volunteer as

(1) A volunteer enrolled in the Peace Corps under section 2504 of title 22;

(2) A volunteer leader enrolled in the Peace Corps under section 2505 of title 22; and

(3) An applicant for enrollment as a volunteer or volunteer leader during a period of training under section 2507(a) of title 22 before enrollment.

Entitlement to disability compensation payments does not commence until the day after the date of termination of service as a volunteer. 5 U.S.C. 8142(b).

Farr-Castle directs the Secretary of the Department of Labor to authorize the Director of the Peace Corps to furnish medical benefits to a volunteer, who is injured during the volunteer's period of service, for a period of 120 days following the termination of such service if the Director certifies that the volunteer's injury probably meets the requirements set forth in 5 U.S.C. 8142(c)(3).

To this end, the Office of Workers' Compensation Programs (OWCP) and the Peace Corps have collaborated to initiate a new form, the CA-15, Peace Corps Volunteer Authorization for Examination and/or Treatment, that will authorize medical treatment for recently terminated Peace Corps volunteers who require medical treatment for injuries/exposure sustained in the performance of their volunteer service. Issuance of this form will solely be at the discretion of the Peace Corps, and will bridge a gap between the occurrence of an initial injury and/or disease exposure and the actual adjudication of a claim by OWCP by helping ensure that recently terminated volunteers receive prompt medical care, without delay, for a period of 120 days following separation from service.

II. Review Focus: The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions: The Department of Labor seeks approval of this new information in order to carry out its responsibility to meet the statutory requirements of the Federal Employees' Compensation Act as amended by the Sam Farr and Nick Castle Peace Corps Reform Act of 2018 (Farr-Castle).

Type of Review: New Collection.

Agency: Office of Workers' Compensation Programs.

Title: Peace Corps Volunteer Authorization for Examination and/or Treatment.

OMB Number: 1240-0NEW.

Agency Number: CA-15Affected Public: Individuals or Households.

Total Respondents: 252.

Total Annual Responses: 252.

Average Time per Response: 15 minutes.

Estimated Total Burden Hours: 63.

Frequency: Once.

Total Burden Cost (capital/startup): $0.

Total Burden Cost (operating/maintenance): $146.

Comments submitted in response to this notice will be summarized and/or included in the request for Office of Management and Budget approval of the information collection request; they will also become a matter of public record.

Vincent Alvarez
Agency Clearance Officer, Office of Workers' Compensation Programs US Department of Labor.

[FR Doc. 2019-16069 Filed 8-6-19; 8:45 am]

BILLING CODE 4510-CH-P